DEPARTMENT OF DEFENSE

Office of the Secretary; Membership of the Office of the Secretary of Defense; Performance Review Board

AGENCY: Department of Defense.

ACTION: Notice.

This notice announces the appointment of the members of the Performance Review Board (PRB) of the Office of the Secretary of Defense, the Joint staff, the U.S. Mission to the North Atlantic Treaty Organization, the Defense Advance Research Projects Agency, the Defense Commissary Agency, the Defense Security Service, the Defense Security Assistance Agency, the Missile Defense Agency, the Defense Field Activities and the U.S. Court of Appeals of the Armed Forces. The publication of PRB membership is required by 5 U.S.C. 4314(c)(4).

The Performance Review Board (PRB) provides fair and impartial review of Senior Executive Service performance appraisals and makes recommendations regarding performance ratings and performance awards to the Secretary of Defense.

EFFECTIVE DATE: October 1, 2004.

FOR FURTHER INFORMATION CONTACT: Sandra Burrell, Executive and Political Personnel Division, Directorate for Personnel and Security, Washington Headquarters Services, Office of the Secretary of Defense, Department of Defense, The Pentagon, (703) 693-8347.

SUPPLEMENTARY INFORMATION: In accordance with 5 U.S.C. 4314(c)(4), the following executives are appointed to the office of the Secretary of Defense PRB: specific PRB panel assignments will be made from this group. Executives listed will serve a one-year renewable term, effective October 1, 2004.

Office of the Secretary of Defense

Chairperson

Jennifer Buck

Bruce Bade

Michael Ioffredo

Robert Leheny

Eric Coulter

Get Moy

Robert Nemetz

George Lotz

Rebecca Schmidt

Joel Sitrin

Paul Koffsky

Richard Burke

Norma St. Claire

William Lowry

Robert Bruce

James Johnson

Cheryl Roby

Kathie Johnson

Mark Schaeffer

James Townsend

Ann Reese

Richard Sylvester

Robert Foster

Alan Shaffer

Margaret Myers

Gary Payton

Ellen Embrey

James J. Townsend

William Lehr

Richard Millies

Sallie Flavin

Dated: October 28, 2004.
Jeannette Owings-Ballard,
OSD Federal Register Liaison Officer, Department of Defense.

[FR Doc. 04-24472 Filed 11-2-04; 8:45 am]

BILLING CODE 5001-06-P